DEPARTMENT OF EDUCATION

34 CFR Chapter II

[Docket ID ED-2023-OELA-0132]

Final Priorities, Requirements, and Definitions—National Professional Development Program

AGENCY: Office of English Language Acquisition, Department of Education.

ACTION: Final priorities, requirements, and definitions.

SUMMARY: The Department of Education (Department) establishes these final priorities, requirements, and definitions for use in the National Professional Development (NPD) program, Assistance Listing Number 84.365Z. The Department may use one or more of these priorities, requirements, and definitions for competitions in fiscal year (FY) 2024 and later years. We intend for these priorities, requirements, and definitions to increase the number of bilingual and multilingual teachers supporting English learners (ELs).

DATES: These priorities, requirements, and definitions are effective April 11, 2024.

FOR FURTHER INFORMATION CONTACT: Francisco Javier López, U.S. Department of Education, 400 Maryland Avenue SW, Washington, DC 20202. Telephone: (202) 558-4880. Email: Francisco.Javier.Lopez@ed.gov.

If you are deaf, hard of hearing, or have a speech disability and wish to access telecommunications relay services, please dial 7-1-1.

SUPPLEMENTARY INFORMATION:

Purpose of Program: The NPD program, authorized by sections 3111(c)(1)(C) and 3131 of the ESEA, provides grants to IHEs or public or private entities with relevant experience and capacity, in consortia with State educational agencies (SEAs) or local educational agencies (LEAs), to implement pre-service and in-service professional development activities intended to improve instruction for ELs and assist education personnel working with ELs to meet high professional standards.

Program Authority: 20 U.S.C. 6861.

We published a notice of proposed priorities, requirements, and definitions (NPP) for this program in the Federal Register on September 15, 2023 (88 FR 63543). The NPP contained background information and our reasons for proposing the priorities, requirements, and definitions. As discussed in the Analysis of Comments and Changes section of this document, we revised the definition of “pre-service” to ensure that GYO programs are part of, and aligned with, State-approved, State-registered pre-service programs. In addition, we added a priority (Final Priority 2) to specifically address the recruitment, preparation, and retention needs of emergent bilingual or multilingual teacher candidates (i.e., not yet bilingual or multilingual, or not yet fully licensed or certified as a teacher, or both) and adjusted the numbering of the priorities accordingly. Next, we revised Priority 4 (formerly Proposed Priority 3) to include school leaders and individuals who are pursuing an additional credential to work in a multilingual setting. Additionally, we consolidated the strategies in Final Priority 1 along with clarifying that the term “evidence-based” in Final Priorities 1, 2, and 4 is as defined in 34 CFR 77.1(c). Finally, we simplified the definition of “low-income” for clarity and opted for the term “student from a low-income background” instead of “low-income student” as well as clarified the definition of “bilingual or multilingual.”

Public Comment: In response to our invitation in the NPP, 35 parties submitted comments addressing the proposed priorities, requirements, and definitions. We group major issues according to subject. Generally, we do not address technical and other minor changes or suggested changes that the law does not authorize us to make under the applicable statutory authority.

Analysis of Comments and Changes: An analysis of the comments and of any changes in the priorities, requirements, and definitions since publication of the NPP follows.

General Comments

Comment: Eighteen commenters expressed support for the Department's efforts to meet the needs of our Nation's multilingual students by addressing the teacher shortage. Many of these commenters applauded the Department's emphasis on GYO strategies. Several commenters noted the timeliness of the proposed priorities and the Secretary's Raise the Bar initiative. More specifically, a couple of commenters emphasized the need for such pre-service programs while others emphasized the importance of the in-service training articulated in Final Priority 4.

Discussion: We appreciate the support for the NPD program and for the specific emphasis on increasing the numbers of bilingual and multilingual teachers, specifically through GYO strategies, improving instruction for ELs, and promoting pathways to multilingualism for all students.

Changes: None.

Comment: Three commenters offered broad strategies for the Department and the field to consider, noting the importance of incentives to encourage participation. One of these commenters expressed the importance of incentivizing participation specifically in GYO programs. In addition, this commenter detailed numerous strategies to address the shortage of multilingual teachers. Two of the three commenters recommended that the Department provide targeted incentives for current teachers to pursue and obtain bilingual certifications.

Discussion: The Department appreciates the suggestions for increasing the number of bilingual or multilingual teachers and recognizes the importance of incentives to encourage participation in teacher professional development programs. The NPD program allows for projects that incentivize participation through preparation stipends and tuition payments.

Changes: None.

Comment: One commenter agreed that, to provide an equitable education to students, it is critical to increase the number of teachers with bilingual or ESL certification. Two commenters highlighted the importance of ensuring equitable access to bilingual opportunities for emergent bilingual students and children with disabilities. One of these commenters offered several suggestions, including incentivizing schools to create policies to honor emergent bilingual students' multilingualism with the seal of biliteracy and incentivizing teachers to pursue dual certification in bilingual education and special education to improve bilingual services for emergent bilingual students with disabilities.

Discussion: We appreciate these comments and have designed these priorities with the goal of expanding pathways to multilingualism for all students, including English learner students and students with disabilities. While this regulatory action does not focus specifically on special education, applications that incorporate opportunities for certification in bilingual education for special education candidates are allowable and encouraged in the NPD program.

Changes: None.

Comment: One commenter highlighted the distinction between the terms “bilingual educator” and “English language learner teacher” with regards to the way instruction is delivered.

Discussion: We appreciate this comment and recognize that the language used to describe educators and students in the field of multilingual and English learner education varies.

Changes: None.

Comment: One commenter noted the challenge to effective multilingual education due to teachers having large caseloads of students and recommended imposing a cap on teachers' caseloads.

Discussion: While we acknowledge the commenter's suggestion that there should be a Federal cap on caseloads, which we interpret to mean class size, we are unable to establish Federal requirements that are beyond the scope of the statutory authority for Department programs and therefore have not added the requested cap to this rule.

Changes: None.

Comment: One commenter recommended increasing teacher salaries and establishing regulations on the number of hours teachers work beyond the educational day. In addition, this commenter suggested that schools provide more supplies and other resources.

Discussion: We recognize the importance of teacher salaries and workloads and encourage states to ensure that all teachers are paid a livable and competitive wage. However, we are unable to establish Federal requirements beyond the scope of the statutory authority for Department programs.

Changes: None.

Comment: One commenter proposed recommendations for improving the number and quality of qualified bilingual and multilingual programs/classes in their State.

Discussion: We appreciate this comment. However, the systems and structures at the State and district levels that were recommended are beyond the scope of the statutory authority of this Federal program.

Changes: None.

Comment: One commenter detailed their organization's efforts and support for GYO programs designed to increase the number of multilingual teachers via various pathways.

Discussion: We appreciate the work of the commenter to address the shortage of multilingual teachers.

Changes: None.

Comment: Two commenters urged funding for in-service English as a Second Language (ESL) teachers as well as the school districts who employ them to promote bilingualism, particularly advocating for increased language opportunities for teachers who only speak English. The commenters also shared that support should be directed towards enhancing literacy instruction.

Discussion: The Department thanks the commenters for these suggestions and recognizes the importance of in-service training. There is already an established NPD priority for projects that provide in-service professional development to improve instruction for ELs. This is inclusive of all educators who work with ELs. We agree with the importance of literacy instruction but do not think it is necessary to prescribe specific content areas within the priorities. We believe that applicants should propose the content areas they believe will best prepare education personnel who are serving ELs, such as literacy instruction.

Changes: None.

Comment: One commenter suggested requirements for entities offering accredited pre-service training programs, including that the programs be specialized according to content area and be composed of at least 18 hours of training to prepare teachers to support linguistically diverse students. In addition, this commenter stated that SEAs and LEAs need models and guidance for supporting newcomer students and migratory youth, and the commenter highlighted benefits of universal bilingual kindergarten.

Discussion: We recognize the importance of teacher preparation and programs that provide teachers with the skills needed to support classrooms that include students who speak multiple languages and students with varying levels of language proficiency in these languages. We appreciate the commenter's suggestions for supporting newcomer students and migratory youth and the support for early childhood education. Rather than prescribing specific types of instruction for pre-service training programs, we encourage applicants to propose programs that are evidence-based and that will best prepare education personnel who are serving ELs.

Changes: None.

Comment: Five commenters explained the importance of supporting educational programs in rural communities where there are a growing number of multilingual and English learner students. Three of these commenters suggested that the NPD program incorporate a priority for bilingual and multilingual educators in rural school districts. One of these commenters expressed concern that peer reviewers from past competitions were not aware of the needs of rural communities.

Discussion: We appreciate the commenters' recommendation to support rural communities and recognize the growing number of multilingual and EL students attending schools in rural communities. Eligible rural-serving entities are encouraged to apply for NPD program grants. The Department offers a variety of supports for all applicants, including those who have not received an NPD program grant in prior years. For example, the Department offers a pre-application webinar and responds to questions as part of every NPD competition. The Department also provides more general resources that are available to entities applying for any grant program. Please see https://www2.ed.gov/fund/grant/about/discretionary/index.html. We did not create a new priority or expand an existing priority to focus on rural communities in the final priorities because there is an administrative priority for rural applicants (85 FR 13640) ¹ that remains in effect and is available for use by the NPD program. Finally, the Department's procedures for awarding discretionary grants include a variety of safeguards and technical assistance to ensure fair grant competitions. For example, for almost all the Department's grant competitions, program staff recruit application reviewers from outside the Federal Government. Peer reviewers for the NPD program are recruited and selected based on their qualifications and experience in serving EL students. And, while Department staff screen applications to ensure that they meet all program requirements, the non-Federal reviewers read and independently score the applications assigned to them.

¹ https://www.federalregister.gov/citation/85-FR-13640.

Changes: None.

Comment: Two commenters noted the importance of training multilingual teachers for children aged five and under. One of these commenters asked that we expand Priority 1 to specifically include early childhood educators. The second commenter advocated for making Proposed Priorities 1 and 3 (Final Priorities 1 and 4) absolute priorities and weighting Proposed Priority 2 (Final Priority 3) heavily as a competitive preference priority.

Discussion: The Department appreciates the support of these commenters and shares the belief in the importance of expanding the number of bilingual and multilingual educators supporting early learning. We encourage applications that incorporate training for bilingual and multilingual teachers on how best to support children aged five and under. In general, we believe this type of training is allowable under Final Priorities 1, 2, and 4. Therefore, we do not believe it is necessary to modify the priorities or requirements. We think it is important to allow flexibility for applicants to propose projects they believe will best prepare teacher candidates for serving ELs and based on the need at the time.

Details about future competitions, including absolute and competitive preference priorities, will be published in the Federal Register in future notices inviting applications.

Changes: None.

Comment: One commenter, writing on behalf of their association, explained the importance of supporting students and educators from Latino backgrounds. This commenter specifically advocated for Proposed Priority 3 (Final Priority 4), stating that it would help eliminate the educator shortage, increase services for students who are ELs, and expand pathways to multilingualism for all students.

Discussion: We appreciate the commenter's recommendations to ensure that the priorities and strategies for the NPD program address the unique considerations of specific linguistic and cultural communities, and we acknowledge the commenter's support for Proposed Priority 3 (Final Priority 4). Because the NPD program is statutorily authorized to serve all ELs, and we intend for the final priorities, requirements, and definitions to expand capacity to support culturally and linguistically diverse students and educators, we have not changed the priorities to focus explicitly on specific communities.

Changes: None.

Comment: Two commenters highlighted that consideration should be made for varying language proficiency within certain contexts, particularly within specific languages and populations, such as indigenous and refugee communities. One of the commenters advised that there may be certain languages where there may not be a large population of advanced speakers, and some advanced speakers may not have advanced proficiency in all domains of the language. A second commenter advocated for targeted programming and support for Native American languages as defined in section 104 of the Native American Language Act of 1990 (NALA 1990) and in ESEA sections 3127 and 3124(3). Both commenters made specific recommendations for the explicit inclusion of Native American languages within the priorities and an adjustment of the definition of “bilingual or multilingual” to allow for various levels of proficiency for Native American languages. Finally, the second commenter also recommended allowing projects to support teacher candidates' language development in Native American languages given that many Native American languages have declining numbers of individuals who are highly proficient.

Discussion: We recognize the importance of strengthening and revitalizing Native American languages through the recruitment, retention, and empowerment of Native American educators, and encourage projects designed to foster a high level of proficiency in Native American languages. The Department is actively supporting Native American language revitalization through this and other programs.

The NPD program is designed to support professional development for educators working with ELs who speak all languages, including Native American languages as defined by NALA 1990 and amended by the Durbin Feeling Languages Act. For this reason, we do not believe it is appropriate to reference specific languages.

We do not believe it is appropriate to revise the definition of “bilingual or multilingual” to allow for various levels of proficiency for Native American languages, as we hope to maintain a focus on high levels of proficiency across all languages. At the same time, we appreciate the importance of supporting educators and teacher candidates in reaching proficiency. To meet this need, we added a new priority (Final Priority 2) that allows for pre-service programs that support teacher candidates who are acquiring an additional language but may not yet be highly proficient in the four domains of listening, speaking, reading, and writing. We also revised the definition of “bilingual or multilingual” to include languages with fewer than four domains (listening, speaking, reading, and writing), by clarifying that “bilingual or multilingual” applies to those with a high level of proficiency in the domains that exist for the language. It is expected that applicants will identify appropriate indicators for measuring proficiency in these languages and equip educators to teach in these languages, and that teacher candidates will finish the pre-service program highly proficient in two or more languages and with a teaching credential.

Additionally, in support of strengthening and revitalizing Native American languages through Native American educators, the Department recently announced ² new awards totaling more than $11 million for the new Native American Language Resource Centers (NALRC) program, the first-ever Native American Teacher Retention Initiative (NATRI) program, and the State Tribal Education Partnership (STEP) program. Through these awards, the Department seeks to strengthen the vitality of Native American languages in schools, support Native American teachers, and ensure Tribal Educational Agencies can coordinate grant resources alongside State and local partners.

² www.ed.gov/news/press-releases/biden-harris-administration-awards-more-11-million-preserve-native-languages-increase-native-teacher-retention-and-support-tribal-educational-agencies.

Changes: The Department added new Final Priority 2 and revised the definition of “bilingual or multilingual” to include all languages, including those with fewer than four domains.

Priorities

Comment: One commenter suggested that current multilingual educators be offered pathways to other content area certifications. A second commenter recommended opening multilingual teacher training to educators of all content areas, not solely to EL educators.

Discussion: We appreciate the work of bilingual and multilingual teachers and recognize the importance of professional development opportunities to support them in other content areas. The NPD program provides professional development to improve instruction for ELs. This is inclusive of all educators who work with ELs across content areas.

Furthermore, in response to the comment about the availability of training for all teachers of ELs, not just EL educators, we revised Final Priority 4 (formerly Proposed Priority 3) to clarify that current educators of ELs, including content area educators, are eligible for additional development to work in multilingual contexts serving EL students.

Changes: We have revised Final Priority 4 (formerly Proposed Priority 3) to clarify that current educators of ELs, including content area educators, are eligible for additional development to work in multilingual contexts serving EL students.

Comment: Six commenters suggested that the Department support pathways for in-service school leaders to further their knowledge of multilingual learner education. This focus would help to ensure that multilingual teachers have support and guidance from school administration.

Discussion: We agree that school leadership is important in the provision of multilingual education. We added language to Final Priority 4 to clarify that applicants may propose projects to create pathways for school leaders to further their knowledge of multilingual learner education.

Changes: We have added “school leaders” to the list of examples of education personnel who may receive in-service professional development under Final Priority 4.

Comment: One commenter recommended that multilingual teacher education programs be encouraged to think strategically about how teachers are prepared to teach content in other languages. Another commenter stated that educators must know English language basics to teach English as a second language in a bilingual classroom. The commenter suggested that professional development should be focused on English language phonics and phonemic awareness for all educators. Finally, a third commenter requested that the Department provide guidance on the types of professional development addressed under these final priorities. The commenter wanted to ensure that the NPD program supports comprehensive training for teachers.

Discussion: We recognize the importance of fully equipping bilingual and multilingual teachers with the knowledge and skills to teach across content areas and languages. The NPD program allows applicants to prepare their pre-service and in-service programs in response to the unique needs of their respective settings, which could include a comprehensive approach or a more targeted focus, such as on a specific content area or on teaching English as a second language in a bilingual classroom.

Changes: None.

Comment: One commenter questioned whether there are enough personnel to guide and oversee newly trained teachers in bilingual education and ensure high-quality teaching.

Discussion: We appreciate the commenter's concern. While this comment referred to oversight on a nationwide scale and cannot be addressed solely through this program, applicants that propose a grant under this program are encouraged to incorporate teacher supervision into their grant proposal to ensure that teachers, in both pre-service and in-service programs, are meeting the expectations of the preparation program.

Changes: None.

Comment: Several commenters commended the efforts to increase opportunities for bilingual education for multilingual learners, stating that increased pre-service opportunities are important and needed. One commenter expressed that there might be confusion created by using the term “pre-service” given that, as proposed, this term includes paraprofessionals and those with other teaching credentials who are not currently multilingual teachers. This commenter wanted to ensure that pathways are expanded to diversify the teacher pipeline rather than limited by traditional notions of “pre-service.” In addition, two commenters suggested that education and training opportunities be made available to bilingual and multilingual educational assistants working in schools who do not have a college degree or education credentials, and to multilingual, English learner, and emergent bilingual teachers who would like to become credentialed as bilingual educators.

Discussion: While we acknowledge the commenters' concerns, the definition of “pre-service” is intended to capture the broad array of pathways to becoming a certified bilingual or multilingual teacher. These pathways can include pre-service programs in which bilingual or multilingual paraprofessionals, who work in schools and are interested in obtaining their teaching credential to support ELs directly, are enrolled. We envision other bilingual and multilingual individuals who are already teachers to be eligible for projects proposed under Final Priority 1 to the extent that they want to move into teaching in bilingual or multilingual education settings. Additionally, we revised Final Priority 4 (formerly Proposed Priority 3) to include individuals who have a teaching credential but have not been teaching in bilingual or multilingual education settings and are pursuing an additional credential to do so.

Changes: We revised Final Priority 4 to include individuals who may have a teaching credential but have not been teaching in bilingual or multilingual education settings and are pursuing an additional credential to do so.

Comment: One commenter expressed support for both Proposed Priority 1 and Proposed Priority 3 (Final Priority 4) as both will help address the teacher shortage for ELs and multilingual learners.

Discussion: The Department appreciates the commenter's support of ELs and their teachers and looks forward to working collectively to address the nationwide teacher shortage of multilingual educators.

Changes: None.

Comment: Eight commenters addressed Proposed Priority 2 (Final Priority 3). Two of these commenters supported the priority because it would create more equitable pathways for aspiring teachers from low-income populations. One of the commenters asked for clarity on how applicants could meet the conditions within Final Priority 3. Another one of these commenters suggested that the Department expand the definition of “low-income” to factor in other socioeconomic considerations beyond Pell Grant eligibility. Another of the commenters encouraged the Department to use available data to target programs that serve socioeconomically diverse students. Four of the commenters raised concerns that Proposed Priority 2 would exclude individuals who are not low-income as defined or do not have the support to apply for Pell grants. Two of the commenters addressed the importance of serving first-generation college applicants as part of Proposed Priority 2.

Discussion: We appreciate the commenters' suggestions. We believe Final Priority 3 will, by design, target programs that are serving socioeconomically diverse students, while allowing for inclusion of students who do not meet the definition of “low-income.” Under Final Priority 3 (formerly Proposed Priority 2), 30, 40, or 50 percent of the candidates in a pre-service program must meet the definition of “low-income.” This priority imposes a minimum, but outside of this minimum, a project could meet this priority by serving a group of potential candidates that is comprised of 50 to 70 percent of individuals who do not meet the definition of “low-income.” Given that the priority would allow for a large percentage of candidates who are not from low-income backgrounds and the importance of building a diverse and representative teacher workforce, we do not believe it is necessary to make changes to the priority.

Finally, we believe that Pell eligibility is a reasonable indicator of low-income status, due to its use as such in other contexts, its validity and reliability, and its availability to institutions. We note that Pell eligibility requirements factor in family size, which is an important consideration in qualifying as low-income. Furthermore, the definition does not require that students have applied for or received Pell Grants, but rather that they would be eligible for, or meet the financial threshold for, a Pell Grant. Accordingly, the definition would not exclude students who lack the support to complete a FAFSA, which is used to determine Pell eligibility. Further, outreach may be conducted as part of an NPD project to help students complete the FAFSA. The purpose of this priority is, in part, to encourage applicants to use funding to work with and recruit students from low-income backgrounds, including those who live in rural areas or who are first-generation candidates, as they transition to and enroll in postsecondary education.

To simplify the definition of “low-income student,” we are removing the reference to section 484(a)(5) of the Higher Education Act. This revision does not substantively change the defined term.

Changes: In the definition of “low-income,” we have removed the reference to section 484(a)(5) of the Higher Education Act.

Definitions

Comment: Four commenters suggested that the Department explicitly include alternative teacher training pathways in its definition of “pre-service” programs rather than only including traditional IHE teacher preparation programs. One of the four commenters recommended that we revise the definition of “pre-service” to include individuals who are participating in State-approved programs offered by non-traditional educational providers. Another of the four commenters explained that alternative pathways programs train new teachers more practically, and such pathways may better serve candidates who come from low-income backgrounds, consistent with the focus of Proposed Priority 2 (Final Priority 3).

Discussion: The Department recognizes the value of comprehensive, high-quality alternative pathways programs for preparing new teachers and the importance of responding to the needs of socioeconomically diverse bilingual and multilingual teacher candidates through these programs which can provide more flexibility. We revised the definition of “pre-service” to clarify that teacher candidates are not limited to programs solely provided by IHEs; rather they include State-accredited pre-service programs that lead to State-approved full certification or licensure.

Changes: We revised the definition of “pre-service” such that it is not limited to teacher education programs only through IHEs.

Final Priorities

The Department establishes the following four priorities for this program. We may use one or more of these priorities in any year in which this program is in effect.

Final Priority 1—Increase the Number of Bilingual or Multilingual Teachers Through a Grow-Your-Own (GYO) Pre-Service Program that Recruits Teacher Candidates who are Bilingual or Multilingual.

Projects that propose to increase the number of fully licensed or certified bilingual or multilingual teachers working in language instruction educational programs or serving ELs, and improve their qualifications and skills, through evidence-based (as defined in 34 CFR 77.1(c)) pre-service programs. Applicants must describe their plan for recruiting, supporting, and retaining teacher candidates who are bilingual or multilingual. Applicants must include in their proposed plan for a pre-service program, one or more of the following GYO strategies that are designed to address shortages of bilingual or multilingual teachers and increase the diversity of qualified individuals entering the educator workforce:

(a) Implementing evidence-based GYO strategies for bilingual or multilingual individuals (e.g., creating dual enrollment, early college, and Career and Technical Education programs in teaching for middle and high school students paired with offering seals of biliteracy or supporting bilingual or multilingual paraprofessionals actively working in P-12 schools in becoming teachers).

(b) Recruiting bilingual or multilingual individuals who may have a teaching credential, but who are not certified to teach bilingual or multilingual education, and supporting them in earning the additional certification.

(c) Implementing evidence-based teacher residencies in bilingual or multilingual education, including scaling these evidence-based pathways through a registered teacher apprenticeship program.

Final Priority 2—Increase the Number of Bilingual or Multilingual Teachers Through a Grow-Your-Own (GYO) Pre-Service Program that Recruits Teacher Candidates who are Emergent Bilinguals or Multilinguals.

Projects that propose to increase the number of fully licensed or certified bilingual or multilingual teachers working in language instruction educational programs or serving ELs, and improve their qualifications and skills, through evidence-based (as defined in 34 CFR 77.1(c)) pre-service programs that recruit teacher candidates who are emergent bilinguals or multilinguals. Applicants must describe their plan for recruiting, supporting, and retaining teacher candidates who are not yet, but are aspiring to be, teachers who are bilingual or multilingual, and their plan for ensuring that teacher candidates complete the pre-service program as fully licensed or certified teachers who are also bilingual or multilingual. Applicants must include in their proposed plan for a pre-service program, one or more of the following GYO strategies that are designed to address shortages of bilingual or multilingual teachers and increase the diversity of qualified individuals entering the educator workforce:

(a) Implementing evidence-based GYO strategies for bilingual or multilingual individuals (e.g., creating dual enrollment, early college, and Career and Technical Education programs in teaching for middle and high school students paired with offering seals of biliteracy or supporting paraprofessionals actively working in P-12 schools in becoming bilingual or multilingual teachers).

(b) Recruiting individuals who may have a teaching credential, but who are not certified to teach bilingual or multilingual education, and supporting them in earning the additional certification.

(c) Implementing evidence-based teacher residencies in bilingual or multilingual education, including scaling these evidence-based pathways through a registered teacher apprenticeship program.

Final Priority 3—Service to Students from Low-income Backgrounds.

Projects that propose to recruit, prepare, and retain in the pre-service program classes of participants for which one or more of the following conditions are met:

(a) At least 30 percent of the participants are from low-income backgrounds.

(b) At least 40 percent of the participants are low-income students.

(c) At least 50 percent of the participants are low-income students.

Final Priority 4—Improve In-Service Professional Development Programs Targeting Bilingual or Multilingual Educational Personnel Who Serve English Learners.

Projects that propose evidence-based (as defined in 34 CFR 77.1(c)) in-service professional development programs designed to expand the number, and improve the qualifications and skills, of educational personnel working in language instruction educational programs or serving ELs, including—

• Bilingual or multilingual educational paraprofessionals and personnel who are not certified or licensed as teachers;

• Bilingual or multilingual individuals who have a teaching credential but have not been teaching in bilingual or multilingual education settings and are pursuing an additional credential to do so;

• School leaders who are furthering their knowledge and skills to support bilingual or multilingual educators working in language instruction educational programs or serving Els; and

• Other bilingual or multilingual individuals who can benefit from in-service professional development with the goal of increasing the number and skills of individuals working in language instruction educational programs or serving ELs.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Requirements

The Department establishes the following requirements for this program. We may apply one or more of these requirements in any year in which this program is in effect.

Final Application Requirements: An applicant must provide the indicators it proposes to use to determine if a participant meets the definition of “bilingual or multilingual.” Applicants may provide this information in response to the selection criteria, or otherwise as applicable, in their applications.

Final Definitions

The Department establishes the following definitions for this program. We may apply one or more of these definitions in any year in which this program is in effect.

Bilingual or multilingual means able to listen, speak, read, and write in two or more languages with at least a high level of proficiency in each language, as determined based on indicators of proficiency established by the grantee. Note, bilingual or multilingual means a high level of proficiency in the domains that exist for the language, which may be fewer than four domains for some languages.

Student from a low-income background means a student—

(a) Who is eligible to receive a Federal Pell Grant for the award year for which the determination is made; or

(b) Who meets the financial threshold to receive a Federal Pell Grant for the year for which the determination is made.

Pre-service means the period of preparation for a person who does not have a teaching certificate or license and who is enrolled in a State-approved teacher education program that leads to a State-approved full certificate or license.

This document does not preclude us from proposing additional priorities, requirements, definitions, or selection criteria, subject to meeting applicable rulemaking requirements.

Note: This document does not solicit applications. In any year in which we choose to use one or more of these priorities, requirements, or definitions, we invite applications through a notice in the Federal Register.

Executive Orders 12866, 13563, and 14094

Regulatory Impact Analysis

Under Executive Order 12866, the Office of Management and Budget (OMB) must determine whether this regulatory action is “significant” and, therefore, subject to the requirements of the Executive order and subject to review by OMB. Section 3(f) of Executive Order 12866, as amended by Executive Order 14094, defines a “significant regulatory action” as an action likely to result in a rule that may—

(1) Have an annual effect on the economy of $200 million or more (adjusted every three years by the Administrator of OIRA for changes in gross domestic product); or adversely affect in a material way the economy, a sector of the economy, productivity, competition, jobs, the environment, public health or safety, or State, local, territorial, or Tribal governments or communities;

(2) Create a serious inconsistency or otherwise interfere with an action taken or planned by another agency;

(3) Materially alter the budgetary impacts of entitlements grants, user fees, or loan programs or the rights and obligations of recipients thereof; or

(4) Raise legal or policy issues for which centralized review would meaningfully further the President's priorities, or the principles set forth in this Executive order, as specifically authorized in a timely manner by the Administrator of OIRA in each case.

This final regulatory action is not a significant regulatory action subject to review by OMB under section 3(f) of Executive Order 12866, as amended by Executive Order 14094.

We have also reviewed this regulatory action under Executive Order 13563, which supplements and explicitly reaffirms the principles, structures, and definitions governing regulatory review established in Executive Order 12866, as amended by Executive Order 14094. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing these final priorities, requirements, and definitions only on a reasoned determination that their benefits would justify their costs. In choosing among alternative regulatory approaches, we selected those approaches that would maximize net benefits. Based on the analysis that follows, the Department believes that this regulatory action is consistent with the principles in Executive Order 13563.

We also have determined that this regulatory action does not unduly interfere with State, local, and Tribal governments in the exercise of their governmental functions.

In accordance with these Executive orders, the Department has assessed the potential costs and benefits, both quantitative and qualitative, of this regulatory action. The potential costs are those resulting from statutory requirements and those we have determined as necessary for administering the Department's programs and activities.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Regulatory Flexibility Act Certification

The Secretary certifies that these final priorities, requirements, and definitions would not have a significant economic impact on a substantial number of small entities.

The small entities that this final regulatory action would affect are IHEs, or public or private entities with relevant experience and capacity, in consortia with LEAs or SEAs applying for and receiving funds under this program. The Secretary believes that the costs imposed on applicants by the final priorities, requirements, and definitions would be limited to paperwork burden related to preparing an application and that the benefits would outweigh any costs incurred by applicants.

Participation in this program is voluntary. For this reason, the final priorities, requirements, and definitions would impose no burden on small entities in general. Eligible applicants would determine whether to apply for funds and can weigh the requirements for preparing applications, and any associated costs, against the likelihood of receiving funding and the requirements for implementing projects under the program. Eligible applicants most likely would apply only if they determine that the likely benefits exceed the costs of preparing an application. The likely benefits include the potential receipt of a grant as well as other benefits that may accrue to an entity through its development of an application, such as the use of that application to seek funding from other sources to address a shortage in bilingual or multilingual teachers working in a language instruction education program or serving ELs.

Paperwork Reduction Act of 1995

These final priorities, requirements, and definitions do not contain any information collection requirements.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Montserrat Garibay,
Assistant Deputy Secretary and Director for the Office of English Language Acquisition.

[FR Doc. 2024-05202 Filed 3-8-24; 8:45 am]

BILLING CODE 4000-01-P